DEPARTMENT OF HOMELAND SECURITY

Coast Guard

33 CFR Part 165

[Docket No. USCG-2011-0228]

RIN 1625-AA00

Safety Zone, Brandon Road Lock and Dam to Lake Michigan Including Des Plaines River, Chicago Sanitary and Ship Canal, Chicago River, and Calumet-Saganashkee Channel, Chicago, IL

AGENCY: Coast Guard, DHS.

ACTION: Notice of enforcement of regulation.

SUMMARY: The Coast Guard will enforce a segment of the Safety Zone; Brandon Road Lock and Dam to Lake Michigan including Des Plaines River, Chicago Sanitary and Ship Canal, Chicago River, Calumet-Saganashkee Channel on all waters of the Chicago Sanitary and Ship Canal from Mile Marker 296.1 to Mile Marker 296.7 at specified times from September 3, 2014, to November 26, 2014. This action is necessary to protect the waterway, waterway users, and vessels from the hazards associated with the U.S. Army Corps of Engineers' installation of a new permanent fish barrier.

During the enforcement periods listed below, entry into, transiting, mooring, laying-up or anchoring within the enforced area of this safety zone by any person or vessel is prohibited unless authorized by the Captain of the Port, Lake Michigan, or her designated representative.

DATES: The regulations in 33 CFR 165.930 will be enforced intermittently from 7 a.m. to 4 p.m. on Monday through Friday, from September 3, 2014 to September 30, 2014. In the event that the installation of the new permanent fish barrier cannot be completed in this timeframe, due to inclement weather or other unforeseen circumstances, this zone will be enforced from 7 a.m. to 4 p.m. on October 1, 2014 through November 26, 2014, excluding October 13, 2014, and November 11, 2014.

FOR FURTHER INFORMATION CONTACT: If you have questions on this document, call or email MST1 John Ng, Waterways Department, Coast Guard Marine Safety Unit Chicago, telephone 630-986-2155, email address john.h.ng@uscg.mil.

SUPPLEMENTARY INFORMATION: The Coast Guard will enforce a segment of the Safety Zone; Brandon Road Lock and Dam to Lake Michigan including Des Plaines River, Chicago Sanitary and Ship Canal, Chicago River, Calumet-Saganashkee Channel, Chicago, IL, listed in 33 CFR 165.930. Specifically, the Coast Guard will enforce this safety zone on all waters of the Chicago Sanitary and Ship Canal between Mile Marker 296.1 to Mile Marker 296.7. Enforcement will occur intermittently from 7 a.m. to 4 p.m. on Monday through Friday, from September 3, 2014, to September 30, 2014. In the event that the installation of the new permanent fish barrier cannot be completed in this timeframe, due to inclement weather or other unforeseen circumstances, this zone will be enforced from 7 a.m. to 4 p.m. on October 1, 2014, through November 26, 2014, excluding October 13, 2014, and November 11, 2014.

This schedule supersedes previously published schedules for enforcement of 33 CFR 165.930 due to the installation of a new permanent fish barrier (USCG 2011-0228-0024, 0025, 0026). The Captain of the Port suspends these previously issued schedules.

This enforcement action is necessary because the Captain of the Port, Lake Michigan, has determined that the U.S. Army Corps of Engineers' installation of a new permanent fish barrier poses risks to life and property. Because of these risks, it is necessary to control vessel movement during the operations to prevent injury and property loss.

In accordance with the general regulations in § 165.23, entry into, transiting, mooring, laying up, or anchoring within the enforced area of this safety zone by any person or vessel is prohibited unless authorized by the Captain of the Port, Lake Michigan or her designated representative.

Vessels that wish to transit through the safety zone may request permission from the Captain of the Port, Lake Michigan. Requests must be made in advance and approved by the Captain of the Port before transits will be authorized. Approvals will be granted on a case by case basis. The Captain of the Port representative may be contacted via U.S. Coast Guard Sector Lake Michigan on VHF channel 16.

This document is issued under authority of 33 CFR 165.930 and 5 U.S.C. 552(a). In addition to this publication in the Federal Register, the Captain of the Port, Lake Michigan, will also provide notice through other means, which may include Broadcast Notice to Mariners, Local Notice to Mariners, local news media, distribution in leaflet form, and on-scene oral notice. Additionally, the Captain of the Port, Lake Michigan, may notify representatives from the maritime industry through telephonic and email notifications.

Dated: August 29, 2014.
A.B. Cocanour,
Captain, U.S. Coast Guard, Captain of the Port, Lake Michigan.

[FR Doc. 2014-21640 Filed 9-11-14; 8:45 am]

BILLING CODE 9110-04-P